DEPARTMENT OF AGRICULTURE

Foreign Agricultural Service

Trade Adjustment Assistance for Farmers

AGENCY: Foreign Agricultural Service, USDA.

ACTION: Notice.

The Administrator, Foreign Agricultural Service (FAS), re-certified the trade adjustment assistance (TAA) petition that was filed by the Puget Sound Salmon Commission on behalf of Washington salmon fishermen and initially certified on October 22, 2003. Salmon fishermen holding permits and licenses in the State of Washington will be eligible to apply for fiscal year 2005 benefits during a 90-day period beginning on November 1, 2004. The application period closes on January 31, 2005.

SUPPLEMENTARY INFORMATION: Upon investigation, the Administrator determined that continued increases in imports of farmed salmon contributed importantly to a decline in the average landed price of salmon in Washington by 24.6 percent during the 2003 marketing period (January-December 2003), compared to the 1997-2001 base period. Eligible producers may request technical assistance from the Extension Service at no cost and receive an adjustment assistance payment, if certain program criteria are satisfied. Applicants who did not receive technical assistance under the fiscal 2004 TAA program must obtain the technical assistance prior to May 2, 2005 in order to be eligible for financial payments.

Producers of raw agricultural commodities wishing to learn more about TAA and how they may apply should contact the Department of Agriculture at the addresses provided below for general information.

Producers Certified as Eligible for TAA, Contact: Farm Service Agency service centers.

For General Information about TAA, Contact: Jean-Louis Pajot, Coordinator, Trade Adjustment Assistance for Farmers, FAS, USDA, (202) 720-2916, e-mail: trade.adjustment@fas.usda.gov.

Dated: October 20, 2004.
Kenneth Roberts,
Acting Administrator, Foreign Agricultural Service.

[FR Doc. 04-24289 Filed 10-29-04; 8:45 am]

BILLING CODE 3410-10-P